DEPARTMENT OF THE INTERIOR

National Park Service

Elk and Vegetation Management Plan, Environmental Impact Statement, Rocky Mountain National Park, Colorado

AGENCY: National Park Service, Interior.

ACTION: Notice of Intent to prepare an Environmental Impact Statement for the Elk and Vegetation Management Plan, Rocky Mountain National Park.

SUMMARY: Pursuant to the National Environmental Policy Act of 1969, 42 U.S.C 4332(C), the National Park Service is preparing an Environmental Impact Statement for the Elk and Vegetation Management Plan for Rocky Mountain National Park, Colorado. This effort will result in a plan for adaptively managing elk and vegetation that addresses important environmental and social issues in the Rocky Mountain National Park area. Rocky Mountain National Park is the lead agency and the final decision will be made by the Regional Director, Intermountain Region. Because of the regional nature of issues concerning management of the migratory elk herd, the park has joined with the following agencies to create an interagency planning team: Town of Estes Park, Estes Valley Recreation and Parks District, Colorado Division of Wildlife, Arapaho-Roosevelt National Forest, U.S. Bureau of Reclamation, Town of Grand Lake, Grand County, and Larimer County. Consultations are ongoing with the Northern Arapaho and Northern Ute Tribes.

The appropriate population size and associated effects of elk in Rocky Mountain National Park and the Town of Estes Park have been intensely debated since the 1930s. The current elk population size is about 3,000 animals. Recent research results indicate that the elk population size, distribution, and migratory patterns are outside the range of variability that would be expected under natural conditions. This has resulted largely because the influence of any significant predation (including hunting) is missing from the system. All major, natural predators of elk were gone from the area by the early 1900s; and hunting on adjacent U.S. Forest Service and private lands has become largely ineffective due to extensive land development in and around Estes Park and elk habituation to residential areas.

The increase in the size and concentration of the elk population is resulting in a number of adverse effects in the area.

To date, the planning team has done some preliminary work to identify the purpose and need of an Elk and Vegetation Management Plan, as well as management tools that the agencies could potentially use to address specific needs. The planning team has not yet created alternatives and will draw heavily on the public input to both modify work to date and begin to build alternatives. The “need for action” summarizes the existing problems; e.g., it explains why the agencies are taking action at all:

The National Park Service is obliged by law and policy to maintain and restore, to the extent possible, natural conditions and processes in park units. The elk herd in the vicinity of Rocky Mountain National Park and Estes Park is larger, less migratory, and more concentrated than it would be under natural conditions. As a result, aspen and willow communities, which support high levels of biodiversity, are declining on the winter range, and grasslands are grazed at extremely high levels. The herd concentrates in safe areas of the Park and Estes Park in the winter, where elk strip vegetation, cause property damage, and pose an increasing threat to tourists and residents as the numbers of encounters between elk and humans increase. Additional impacts include the drain on agency resources, as staff is called in to help manage human/elk conflicts.

Purpose is an overarching statement of what the plan must do to be considered a success. The team has identified the following as the purpose of the Elk and Vegetation Management Plan:

Reduce the impacts of elk on vegetation, as well as human/elk conflicts, and restore, to the extent possible, the natural range of variability in both the elk population and affected plant communities, while providing for elk viewing opportunities, associated recreational opportunities, and economic benefits.

Some of the specific issues that the plan is likely to address include: the size and distribution of the elk population; disrupted migration patterns; aspen and willow declines on the core winter range; locally high levels of herbivory; impacts on biodiversity; the risk of elk to human safety; damage to private property; lack of major natural predators; limited access to areas outside the Park that are open to hunting; traffic congestion and motor vehicle accidents; the importance of elk viewing to park visitors and local residents; maintaining recreational opportunities associated with elk (e.g., viewing, hunting); the significance of the elk herd to tourism and local economies; and the need for consistency with interagency objectives for managing chronic wasting disease. Additional issues will be identified by the public during the scoping process.

The planning team is committed to involving the interested and affected public in working through preliminary work to date, as well as future components of the planning process. This includes framing an appropriate range of alternatives. Although the team has not created alternatives, it has identified some management tools that may be useful in resolving the problems and planning issues identified above. These tools include the use of barriers (e.g., fences, rock/log piles), hazing (e.g., cracker shells or other noisemaking devices, rubber bullets) or herding (e.g., herding dogs, riders on horseback, people in golf carts, or people on foot with elk sticks), chemical repellents, habitat improvement in strategic locations, vegetation manipulation (e.g., cutting, planting, prescribed fire), water manipulations (e.g., reestablishing beaver, creating artificial dams), predator reintroduction, fertility control, hunting, and agency culling. Some of these tools would be more effective than others, and some would have more serious environmental consequences than others. Analysis of both effectiveness and impacts will be part of the Environmental Impact Statement.

As noted above, the agencies consider public participation and input to be key in the planning and environmental impact analysis process guiding preparation of the Draft Elk and Vegetation Management Plan and Environmental Impact Statement. Therefore, the planning team will offer several opportunities for education and involvement as part of scoping. A scoping brochure and webpage linked to the Rocky Mountain National Park Internet site (http://www.nps.gov/romo/) will be available by summer 2003. The scoping brochure and webpage will provide background information, describe the planning process, and identify opportunities for public involvement. The scoping brochure will be distributed to all parties on the project mailing list as well as other potentially interested stakeholders that are identified. The planning team will also conduct public scoping meetings, which at this time are anticipated in the summer of 2003. Specific dates, times, and locations will be announced in the local and regional news media and on the webpage and will be available by contacting Vaughn Baker, Superintendent of Rocky Mountain National Park.

DATES: The Park Service will accept comments from the public through August 27, 2003.

ADDRESSES: All interested parties are encouraged to provide written comments that identify concerns and issues associated with the Elk and Vegetation Management Plan or provide other relevant information. Comments may be mailed or hand-delivered to Vaughn Baker, Superintendent, Rocky Mountain National Park, 1000 U.S. Highway 36, Estes Park, Colorado 80517-8397. Comments may also be faxed to (970) 586-1397, or e-mailed to ROMO_Superintendent@nps.gov.

FOR FURTHER INFORMATION OR TO BE ADDED TO THE PROJECT MAILING LIST CONTACT: Therese Johnson, Management Biologist, Rocky Mountain National Park, 1000 U.S. Highway 36, Estes Park, Colorado 80517-8397, (970) 586-1262, Fax (970) 586-1359, or e-mail Therese_Johnson@nps.gov.

SUPPLEMENTARY INFORMATION: All comments that are submitted will become part of the public record. Please submit Internet comments as an ASCII file avoiding the use of special characters and any form of encryption. Please also include “ATTN: Elk” and your name and return address in your Internet message. If you do not receive a confirmation from the system that we received your Internet message, contact Therese Johnson (970) 586-1262. The National Park Service will make comments, including names and home addresses of respondents, available for public review during regular business hours. Individual respondents may request that their home address be withheld from the record, which will be honored to the extent allowable by law. There also may be circumstances in which the National Park Service would withhold from the record a respondent's identity, as allowable by law. If a respondent wishes the National Park Service to withhold their address, they must state this prominently at the beginning of the comment. The National Park Service will make all submissions from organizations or businesses, and from individuals identifying themselves as representatives or officials of organizations or businesses, available for public inspection in their entirety.

Dated: April 30, 2003.
Karen Wade,
Director, Intermountain Region, National Park Service.

[FR Doc. 03-13338 Filed 5-28-03; 8:45 am]

BILLING CODE 4312-CP-P